DEPARTMENT OF ENERGY

Western Area Power Administration

Wolf Point-Williston Transmission Lines Rebuild Project

AGENCY: Western Area Power Administration, DOE.

ACTION: Notice of Floodplain/Wetlands Involvement.

SUMMARY: The Western Area Power Administration (Western) intends to rebuild an existing transmission line in northeastern Montana and western North Dakota. This project will involve the replacement of the existing wood pole H-frame structures along the entire route of the Wolf Point-Williston 115-kilovolt (kV) Transmission Line. The transmission line runs near the Missouri River and crosses Wolf Creek, Big Muddy Creek, and the Poplar River.

Following the U.S. Department of Energy (DOE) Floodplain/Wetland Review Requirements (10 CFR part 1022), Western will prepare a floodplain assessment for this project and will perform the proposed action in ways that avoid or minimize potential harm to or within the affected floodplain. The floodplain assessment will be included in the Environmental Assessment being prepared by Western, under the provisions of the DOE National Environmental Policy Act Implementing Procedures (10 CFR part 1021).

DATES: Comments on the proposed floodplain action are due to the address below by August 15, 2001.

FOR FURTHER INFORMATION CONTACT: Comments should be addressed to Mr. Theodore Anderson, Environmental Specialist, Upper Great Plains Customer Service Region, Western Area Power Administration, P.O. Box 35800, Billings, Montana 59107-5800, e-mail tanderso@wapa.gov. For further information on DOE Floodplain/Wetlands Environmental Review Requirements, contact: Ms. Carol M. Borgstrom, Director, NEPA Policy and Compliance, EH-42, U.S. Department of Energy, 1000 Independence Avenue SW., Washington, DC 20585, telephone (202) 586-4600 or (800) 472-2756.

SUPPLEMENTARY INFORMATION: Western intends to rebuild the Wolf Point-Williston 115-kV Transmission Line that runs between the Wolf Point Substation west of Wolf Point, Montana, to the Williston Substation, west of Williston, North Dakota. The line is approximately 50 years old and approximately 94 miles long.

Western does not intend to operate the transmission line at 230-kV but only complete necessary improvements to the transmission line structures and conductor. Western proposes to replace the existing wood H-frame structures with either wood or steel 230-kV H-frame structures and intends to place these new structures in the same locations, as much as it is practicable. The line would have new conductor installed at this time. A 24-count fiber optic overhead ground wire is scheduled to be strung on the line in 2004. The fiber optic cable would replace one of the existing overhead ground wires.

The transmission line rebuild project will affect lands within the exterior boundaries of the Fort Peck Indian Reservation and pass near the towns of Wolf Point, Poplar, and Brockton. It will also affect private lands east of the Reservation and pass near the towns of Culbertson and Bainville in Roosevelt County, Montana, and terminate approximately 4 miles west of Williston in Williams County, North Dakota. There may be lands managed by the Bureau of Land Management and lands belonging to the State of Montana along this route.

The transmission line lies north of, but does not cross the Missouri River. The line crosses the floodplains of the Poplar River at Poplar, Montana; Wolf Creek near Wolf Point, Montana; and Big Muddy Creek west of Culbertson, Montana; all near their confluences with the Missouri River.

The action will entail removing of the existing structures and installing the new structures and equipment. Most ground disturbances will take place where the structures are replaced and at the pulling sites where new conductor is installed and where the fiber optic overhead groundwire will be installed in 2004. As part of the environmental review, Western will consider installing of new wood pole and new steel pole structures within the floodplains. The analysis will also consider the impacts from reconductoring the transmission line. Placing new structures in the existing right-of-way may result in changes in the maximum span length between structures. Span lengths changes would require some structure relocations. The analysis will consider a minimum right-of-way width of 125 feet to accommodate construction activities. A few specific routing alternatives to alleviate existing problems have been identified along the Wolf Point-Williston line. Access routes exist, but there may be additional access trails or roads to individual structure locations.

Dated: July 24, 2001.
Michael S. Hacskaylo,
Administrator.

[FR Doc. 01-19128 Filed 7-31-01; 8:45 am]

BILLING CODE 6450-01-P